DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting one supplement (in scope of the parent award) for the Cooperative Agreement for National Suicide Prevention Lifeline and Disaster Distress Helpline recipient, Mental Health Association of New York City, Inc. (DBA Vibrant Emotional Health), funded in FY 2021 under Notice of Funding Opportunity (NOFO) SM 21-005. The recipient may receive up to $80,000,000 and has a project end date of September 29, 2026. The supplemental funding will be used to maintain 988 operations and services, both at local levels and across all backup, chat, text, LGBTQI+ youth, Spanish language, and videophone based services. This funding will ensure continuation of all 988 services and supports.

FOR FURTHER INFORMATION CONTACT: Mary Woodruff, Public Health Advisor, 988 and Behavioral Health Crisis Coordinating Office, Substance Abuse and Mental Health Services Administration, 5600 Fishers Lane, Rockville, MD 20857, telephone 240-276-1733; email: mary.woodruff@samhsa.hhs.gov.

SUPPLEMENTARY INFORMATION:

Funding Opportunity Title: Cooperative Agreement for the National Suicide Prevention Lifeline and Disaster Distress Helpline, SM-21-005.

Assistance Listing Number: 93.243.

Authority: Section 520E-3 (42 U.S.C. 290bb-36c) of the Public Health Service Act, as amended.

Justification: The 988 Suicide and Crisis Lifeline Cooperative Agreement (988 Lifeline) manages, enhances, and strengthens the 988 Lifeline network that routes individuals in the United States to a network of certified crisis centers that links to local emergency, mental health, and social services resources. The 988 Lifeline is a 24/7 confidential suicide and crisis hotline providing phone, chat, and text services for anyone in the United States experiencing a suicidal crisis or in emotional distress. This supplemental funding will ensure continuation of all active services, including continuing expanded access for high-risk populations, improving access to services to ensure equity of access, and supporting infrastructure to ensure stability, safety, privacy, and connection of service.

Since 2005, Vibrant Emotional Health has provided oversight and management of the Suicide Prevention Lifeline and its local call centers, backup centers, Spanish network, and chat/text functions with a network of over 215+ centers in all fifty states. Vibrant Emotional Health has the infrastructure, experience, and national reach to work with the backup centers, language services, and chat/text organizations to address the increased contact volumes expected in 2023 and beyond. With the transition to 988 accomplished, consistent services, such as ensuring access to the local and national Lifeline backup centers, geo-routing, language services, system evaluation and data reporting, and access to specialized care for populations to be known at higher risk for suicide, are required to fully realize the potential impact to 988 contact service. Through this supplemental funding, SAMHSA and Vibrant can ensure capacity to address increased call, chat and text volume following 988 implementation, further develop connection and support for individuals at higher risk of suicide, and strengthen the efficiency and customer experience of the network through unified technology.

This is not a formal request for application. Assistance will only be provided to the recipient, funded in FY 2021 under the Cooperative Agreement for the National Suicide Prevention Lifeline and Disaster Distress Helpline (SM-21-005) based on the receipt of a satisfactory application and associated budget that is approved by a review group.

Savannah Kidd,
Supervisory Public Health Analyst.

[FR Doc. 2024-14055 Filed 6-27-24; 8:45 am]

BILLING CODE 4162-20-P